SMALL BUSINESS ADMINISTRATION

[License No. 04/04-0311]

BB&T Capital Partners Mezzanine Fund II, L.P.; Notice Seeking Exemption Under Section 312 of the Small Business Investment Act, Conflicts of Interest

Notice is hereby given that BB&T Capital Partners Mezzanine Fund II, 101 N. Cherry Street, Suite 700, Winston-Salem, NC 27101, a Federal Licensee under the Small Business Investment Act of 1958, as amended (“the Act”), in connection with the financing of a small concern, has sought SBA's prior written approval under section 312 of the Act and Section 107.730 (a)(4), Provide Financing to a Small Business to discharge an obligation to your Associate or free other funds to pay such obligation., of the Small Business Administration (“SBA”) Rules and Regulations (13 CFR 107.730). BB&T Capital Partners Mezzanine Fund II proposes to provide debt security financings to The Country Vintner, 12305 Lakeridge Pkwy, Ashland, VA 23005, and Phoenix Children's Academy, Inc., 8767 E Via Due Ventura, Suite 240, Scottsdale, AZ 85258. These financings are contemplated for growth and general corporate purpose.

These financings are brought within the purview of Section 107.730(a)(4) of the Regulations because BB&T Capital Partners Mezzanine Fund II's financings will discharge the obligations of The Country Vintner and Phoenix Children's Academy, owed to BB&T Capital Partner/Windsor Mezzanine Fund, LLC, which is considered an Associate of BB&T Capital Partners Mezzanine Fund II, LP as defined in Sec. 107.50 of the regulations. Therefore, these transactions require SBA's prior approval.

Notice is hereby given that any interested person may submit written comments on the transactions, within 15 days of the date of this publication, to the Associate Administrator for Investment and Innovation, U.S. Small Business Administration, 409 Third Street, SW., Washington, DC 20416.

Dated: August 15, 2011.
Sean J. Greene,
Associate Administrator for Investment and Innovation.

[FR Doc. 2011-22893 Filed 9-7-11; 8:45 am]

BILLING CODE P